DEPARTMENT OF ENERGY

Western Area Power Administration

Post-2009 Resource Pool—Loveland Area Projects—Final Power Allocation

AGENCY: Western Area Power Administration, DOE.

ACTION: Notice of Final Power Allocation.

SUMMARY: Western Area Power Administration (Western), a Federal power marketing agency of the Department of Energy, announces its Post-2009 Resource Pool Final Power Allocation developed under the requirements of Subpart C—Power Marketing Initiative of the Energy Planning and Management Program (Program) Final Rule, 10 CFR part 905.

Final allocations are published to show Western's decisions prior to beginning the contractual phase of the process. Firm electric service contracts negotiated between Western and allottees will permit delivery of power from the October 2009 billing period, through the September 2024 billing period.

DATES: The Post-2009 Resource Pool Final Power Allocation will become effective August 21, 2009, and will remain in effect until September 30, 2024.

ADDRESSES: Information about the Post-2009 Resource Pool Allocation, including comments, letters, and other supporting documents, is available for public inspection and copying at the Rocky Mountain Customer Service Region office, Western Area Power Administration, 5555 East Crossroads Boulevard, Loveland, CO 80538-8986.

SUPPLEMENTARY INFORMATION: Western published the Post-2009 Resource Pool—Loveland Area Projects—Allocation Procedures and Call for Applications (Procedures) on October 22, 2008 (73 FR 62981), to implement Subpart C—Power Marketing Initiative of the Program's Final Rule, 10 CFR part 905, published on October 20, 1995, at 60 FR 54151, as revised on March 30, 2000, at 65 FR 16795. The Program, developed in part to implement section 114 of the Energy Policy Act of 1992 (Pub. L. 102-486), became effective on November 20, 1995. The Program establishes project-specific power resource pools and provides for the allocation of power from these pools to new preference customers. The allocation procedures, in conjunction with the General Power Marketing and Allocation Criteria (Criteria) (51 FR 4012, January 31, 1986), establish the framework for allocating power from the Loveland Area Projects (LAP) resource pool.

Western published its proposed allocation and initiated a public comment period in the Federal Register (74 FR 13430, March 27, 2009). A public comment forum on the proposed allocation was held April 16, 2009. Public comments were due to Western by April 27, 2009, at 4 p.m. MDT. Western received one comment regarding the proposed allocation.

I. Comment and Response

Comment: One customer commented that with fewer eligible applicants, an allottee may get more power than if there were more eligible applicants for the resource pool.

Response: Each eligible allottee receives a proportional share of the resource pool based on its average seasonal load; however, each allottee receiving an allocation from a LAP resource pool is capped at 5,000 kilowatts (kW) of capacity. The energy is similarly capped to be consistent with the capacity allocation. This method complies with EPAMP and is consistent with RMR's previous resource pool allocation process.

II. Amount of Pool Resources

Western will allocate up to 1 percent (1%) of the LAP long-term hydroelectric resource available as of October 1, 2009. Approximately 6.9 megawatts (MW) of capacity and 11.3 gigawatt-hours (GWh) of energy will be available for the summer season. Winter availability will be approximately 6.1 MW of capacity and 9.1 GWh of energy. This resource pool is created by reducing existing customers' allocations by up to 1%.

III. Final Power Allocation

Western received four applications for the Post-2009 LAP resource pool. All applicants were eligible and four allocations were proposed. Since the proposed allocations were published, one entity with a proposed allocation, the University of Wyoming, was unable to obtain delivery of its allocation and withdrew its application. As provided in the Procedures, the total resource was redistributed to the remaining allottees. Through this redistribution, the City of Russell's summer capacity exceeded the 5,000 kW maximum by 570 kW. The 570 kW and associated summer energy of 932,451 kWh is being returned to the existing customers. The final power allocations are made in accordance with the Procedures and are shown in the table below.

Allottees | Final post-2009 power allocation: Summer kilowatthours | Final post-2009 power allocation: Winter kilowatthours | Final post-2009 power allocation: Summer kilowatts | Final post-2009 power allocation: Winter kilowatts
City of Arma, KS | 629,922 | 519,887 | 385 | 345
City of Cimarron, KS | 1,559,261 | 1,121,710 | 953 | 746
City of Russell, KS | 8,180,803 | 7,464,553 | 5,000 | 4,962
Total Resource Pool | 10,369,986 | 9,106,150 | 6,338 | 6,053

The final power allocations shown in the table above are based on the LAP marketable resource currently available. If the LAP marketable resource is adjusted in the future, all allocations may be adjusted accordingly. Long-term firm energy with associated capacity made available for marketing because an allocation(s) has been reduced or withdrawn may be administratively reallocated by Western's Administrator without further public process (Criteria Section V.C.3.).

IV. Review Under the National Environmental Policy Act

In compliance with the National Environmental Policy Act (NEPA) of 1969 (42 U.S.C. 4321-4347); Council on Environmental Quality Regulations (40 CFR parts 1500-1508); and DOE NEPA Regulations (10 CFR part 1021), Western has determined that this action is categorically excluded from preparing an environmental assessment or an environmental impact statement.

Dated: June 15, 2009.
Timothy J. Meeks,
Administrator.

[FR Doc. E9-17419 Filed 7-21-09; 8:45 am]

BILLING CODE 6450-01-P